DEPARTMENT OF ENERGY

Federal Energy Regulatory Commission

Combined Notice of Filings #2

Take notice that the Commission received the following electric rate filings:

Docket Numbers: ER17-424-009.

Applicants: Footprint Power Salem Harbor Development.

Description: Notice of Non-Material Change in Status of Footprint Power Salem Harbor Development LP.

Filed Date: 4/21/21.

Accession Number: 20210421-5129.

Comments Due: 5 p.m. ET 5/12/21.

Docket Numbers: ER19-229-006.

Applicants: Allegheny Ridge Wind Farm, LLC.

Description: Compliance filing: Allegheny Ridge Wind Farm, LLC, Docket No. ER19-229 to be effective 12/31/2018.

Filed Date: 4/21/21.

Accession Number: 20210421-5053.

Comments Due: 5 p.m. ET 5/12/21.

Docket Numbers: ER21-254-001.

Applicants: Harmony Florida Solar, LLC.

Description: Report Filing: Harmony Florida Solar, LLC Refund Report of Sellers to be effective N/A.

Filed Date: 4/21/21.

Accession Number: 20210421-5063.

Comments Due: 5 p.m. ET 5/12/21.

Docket Numbers: ER21-255-001.

Applicants: Taylor Creek Solar, LLC.

Description: Report Filing: Taylor Creek Solar, LLC Refund Report of Sellers to be effective N/A.

Filed Date: 4/21/21.

Accession Number: 20210421-5073.

Comments Due: 5 p.m. ET 5/12/21.

Docket Numbers: ER21-1722-000.

Applicants: Public Service Company of New Mexico.

Description: § 205(d) Rate Filing: Second Revised Service Agreement 489 to be effective 3/23/2021.

Filed Date: 4/21/21.

Accession Number: 20210421-5084.

Comments Due: 5 p.m. ET 5/12/21.

Docket Numbers: ER21-1723-000.

Applicants: PJM Interconnection, L.L.C.

Description: Tariff Cancellation: Notice of Cancellation of ISA, Service Agreement No. 4870; Queue No. AB1-069 to be effective 5/25/2021.

Filed Date: 4/21/21.

Accession Number: 20210421-5090.

Comments Due: 5 p.m. ET 5/12/21.

Docket Numbers: ER21-1724-000.

Applicants: Florida Power & Light Company.

Description: § 205(d) Rate Filing: FPL & Seminole Removal of Delivery Point from NITSA to be effective 1/1/2021.

Filed Date: 4/21/21.

Accession Number: 20210421-5119.

Comments Due: 5 p.m. ET 5/12/21.

Docket Numbers: ER21-1725-000.

Applicants: Torofino Trading LLC.

Description: Notice of Cancellation of Market-Based Rate Tariff of Torofino Trading LLC.

Filed Date: 4/21/21.

Accession Number: 20210421-5131.

Comments Due: 5 p.m. ET 5/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2021.
Nathaniel J. Davis, Sr.,
Deputy Secretary.

[FR Doc. 2021-09254 Filed 4-30-21; 8:45 am]

BILLING CODE 6717-01-P